DEPARTMENT OF COMMERCE

International Trade Administration

A-570-863

Sixth Administrative Review of Honey from the People's Republic of China: Extension of Time Limit for the Preliminary Results

AGENCY: Import Administration, International Trade Administration, Department of Commerce.

EFFECTIVE DATE: August 11, 2008.

FOR FURTHER INFORMATION CONTACT: Catherine Bertrand, AD/CVD Operations, Office 9, Import Administration, International Trade Administration, U.S. Department of Commerce, 14th Street and Constitution Avenue, NW, Washington DC 20230; telephone-(202) 482-3207.

SUPPLEMENTARY INFORMATION:

Background

On January 28, 2008, the Department of Commerce (“Department”) published a notice of initiation of an administrative review of honey from the People's Republic of China (“PRC”), covering the period December 1, 2006—November 30, 2007. See Initiation of Antidumping and Countervailing Duty Administrative Reviews and Request for Revocation in Part, 73 FR 4829 (January 28, 2008) (“Initiation”). On April 2, 2008, after receiving comments on U.S. Customs and Border Protection data, the Department selected the mandatory respondents for this review. From May 9, 2008 to July 11, 2008, the participating mandatory respondent responded to the Department's questionnaire and subsequent supplemental questionnaires. On June 10, 2008 the Department selected an additional mandatory respondent, which did not respond to the Department's initial antidumping duty questionnaire or the Department's second antidumping duty questionnaire. The preliminary results of this administrative review are currently due on September 2, 2008.

Extension of Time Limit for the Preliminary Results

The Department determines that completion of the preliminary results of this review within the statutory time period is not practicable, given the extraordinarily complicated nature of the proceeding. Although this administrative review covers one company, the Department requires more time to gather and analyze a significant amount of information pertaining to this company's corporate structure and ownership, sales practices, and manufacturing methods. Lastly, the Department requires additional time to analyze the questionnaire responses and to issue supplemental questionnaires. Therefore, given the number and complexity of issues in this case, and in accordance with section 751(a)(3)(A) of the Tariff Act of 1930, as amended (“the Act”), we are extending the time period for issuing the preliminary results of review by 75 days until November 15, 2008. The final results continue to be due 120 days after the publication of the preliminary results.

This notice is published pursuant to section 751(a)(3)(A) of the Act and 19 CFR 351.213(h)(2).

Dated: August 1, 2008.
Stephen J. Claeys,
Deputy Assistant Secretary for Import Administration.

[FR Doc. E8-18480 Filed 8-8-08; 8:45 am]

BILLING CODE 3510-DS-S